DEPARTMENT OF STATE

[Public Notice 8361]

Lifting of Chemical and Biological Weapons (CBW) Proliferation Sanctions Against Chinese Entities

AGENCY: Department of State.

ACTION: Notice.

SUMMARY: A determination has been made, pursuant to Section 81(e) of the Arms Export Control Act and Section 11C(e) of the Export Administration Act of 1979, as amended, to lift nonproliferation measures on Chinese entities.

DATES: Effective Date: Upon publication in the Federal Register.

FOR FURTHER INFORMATION CONTACT: Pamela K. Durham, Office of Missile, Biological, and Chemical Nonproliferation, Bureau of International Security and Nonproliferation, Department of State, Telephone (202) 647-4930.

SUPPLEMENTARY INFORMATION: Pursuant to Section 81(e) of the Arms Export Control Act (22 U.S.C. 2798(d)) and Section 11C(e) of the Export Administration Act of 1979, as amended (50 U.S.C. app. 2410c(d)), the Under Secretary of State for Arms Control and International Security determined and certified to Congress that lifting sanctions on the following Chinese entities, their sub-units and successors is important to the national security interests of the United States:

1. China Machinery and Equipment Import Export Corporation

2. China National Machinery and Equipment Import Export Corporation

3. CMEC Machinery and Electric Equipment Import and Export Company Ltd.

4. CMEC Machinery and Electrical Import Export Company, Ltd.

5. China Machinery and Electric Equipment Import and Export Company

These restrictions were imposed on July 9, 2002 (see Volume 67 FR Public Notice 4071).

Dated: June 21, 2013.
Thomas M. Countryman,
Assistant Secretary of State for International Security and Nonproliferation.

[FR Doc. 2013-15434 Filed 6-26-13; 8:45 am]

BILLING CODE 4710-03-P